GENERAL SERVICES ADMINISTRATION

[Notice-CECANF-2015-06; Docket No. 2015-0006; Sequence No. 6]

Commission To Eliminate Child Abuse and Neglect Fatalities; Cancellation of Meeting

AGENCY: Commission to Eliminate Child Abuse and Neglect Fatalities, General Services Administration.

ACTION: Meeting Cancellation.

SUMMARY: The Commission to Eliminate Child Abuse and Neglect Fatalities (CECANF), a Federal Advisory Committee established by the Protect Our Kids Act of 2012, published a Federal Register notice at 80 FR 36340, on June 24, 2015, announcing a meeting on July 1, 2015. The meeting has been cancelled.

DATES: Effective: June 24, 2015.

FOR FURTHER INFORMATION CONTACT: Visit the CECANF Web site at https://eliminatechildabusefatalities.sites.usa.gov/ or contact Patricia Brincefield, Communications Director, at 202-818-9596, U.S. General Services Administration, 1800 F Street NW., Room 7003D, Washington DC 20405, Attention: Tom Hodnett (CD) for CECANF.

SUPPLEMENTARY INFORMATION: The Commission to Eliminate Child Abuse and Neglect Fatalities (CECANF) published a Federal Register notice at 80 FR 36340, on June 24, 2015, announcing a public meeting on July 1, 2015 in Washington, DC. The meeting has been cancelled due to a lack of availability of invitees. At this time, there are no plans to reschedule the event.

Dated: June 24, 2015.
Amy Templeman,
Acting Executive Director.

[FR Doc. 2015-16040 Filed 6-29-15; 8:45 am]

BILLING CODE 6820-34-P